DEPARTMENT OF THE INTERIOR

Office of the Secretary

[189D0102DM, DLSN00000.000000, DS62400000, DX62401; OMB Control Number OMB Control Number 1084-0010]

Agency Information Collection Activities; Claim for Relocation Payments—Residential, DI-381 and Claim for Relocation Payments—Nonresidential, DI-382

AGENCY: Office of the Secretary, Office of Acquisition and Property Management, Interior.

ACTION: Notice of information collection; request for comment.

SUMMARY: In accordance with the Paperwork Reduction Act of 1995), we, the Office of Acquisition and Property Management is proposing to renew an information collection with revisions.

DATES: Interested persons are invited to submit comments on or before December 29, 2021.

ADDRESSES: Written comments and recommendations for the proposed information collection should be sent within 30 days of publication of this notice to www.reginfo.gov/public/do/PRAMain. Find this particular information collection by selecting “Currently under 30-day Review—Open for Public Comments” or by using the search function. Please provide a copy of your comments to Jeffrey Parrillo, 1849 C Street NW, Washington, DC 20240; or by email to PRA-DOI@ios.doi.gov. or by phone to (202) 208-7072. Please reference OMB Control Number 1084-0010 in the subject line of your comments.

FOR FURTHER INFORMATION CONTACT: To request additional information about this ICR, contact Jeffrey Parrillo, 1849 C Street NW, Washington, DC 20240; or by email to PRA-DOI@ios.doi.gov. or by phone to (202) 208-7072. You may also view the ICR at http://www.reginfo.gov/public/do/PRAMain. Individuals who are hearing or speech impaired may call the Federal Relay Service at 1-800-877-8339 for TTY assistance.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 14, 2021 (86 FR 31523). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Regulations at 42 U.S.C. 4601, Uniform Relocation Assistance and Real Property Acquisition Policies Act of 1970, as amended, require Federal agencies acquiring real estate interests to provide relocation benefits to individuals and businesses displaced as a result of the acquisition. Forms DI-381, Claim For Relocation Payments—Residential, and DI-382, Claim For Relocation Payments—Nonresidential, along with the associated Schedules A, B, C, and D, permit the applicant to present allowable moving expenses and certify occupancy status, after having been displaced because of Federal acquisition of their real property.

The information required is obtained through application made by the displaced person or business to the funding agency for determination as to the specific amount of monies due under the law. The forms, through which application is made, require specific information since the Uniform Relocation Assistance and Real Property Acquisition Act allows for various amounts based upon each actual circumstance. Failure to make application to the agency would eliminate any basis for payment of claims. With this renewal we are making a small revision to item 3 of Schedule D (Reestablishment Expenses—Nonresidential). The form used to require a listing of expenses that are eligible for reimbursement under the law, and now we have provided an itemized list.

Title of Collection: Claim for Relocation Payments—Residential, DI-381 and Claim for Relocation Payments—Nonresidential, DI-382.

OMB Control Number: 1084-0010.

Form Number: Forms DI-381 and DI-382, associated Schedules A, B, C, and D.

Type of Review: Extension of a currently approved collection.

Respondents/Affected Public: Individuals and businesses who are displaced because of Federal acquisitions of their real property.

Total Estimated Number of Annual Respondents: 24.

Total Estimated Number of Annual Responses: 24.

Estimated Completion Time per Response: 50 minutes.

Total Estimated Number of Annual Burden Hours: 20 Hours.

Respondent's Obligation: Required to Obtain or Retain a Benefit.

Frequency of Collection: As needed.

Total Estimated Annual Nonhour Burden Cost: This collection does not have a nonhour cost burden.

An agency may not conduct or sponsor and a person is not required to respond to a collection of information unless it displays a currently valid OMB control number.

The authority for this action is the Paperwork Reduction Act of 1995 (44 U.S.C. 3501 et seq.).

Jeffrey Parrillo,
Departmental Information Collection Clearance Officer.

[FR Doc. 2021-25918 Filed 11-26-21; 8:45 am]

BILLING CODE 4334-63-P